DEPARTMENT OF HOMELAND SECURITY

Coast Guard

33 CFR Part 165

[Docket Number USCG-2026-0025]

RIN 1625-AA00

Safety Zone; Annual Fireworks Displays Within the Sector Columbia River Captain of the Port Zone

AGENCY: Coast Guard, Department of Homeland Security.

ACTION: Notice of proposed rulemaking.

SUMMARY: The Coast Guard proposes to amend the regulations establishing safety zones for annual fireworks displays in the Captain of the Port Zone Columbia River. This action would add a safety zone for a fireworks display, remove a safety zone for a fireworks display no longer under the Coast Guard's authority and jurisdiction, edit a fireworks display's name, and add a second date for a fireworks display. This proposed rulemaking would prohibit persons and vessels from being in the safety zone unless specifically authorized by the Captain of the Port, Sector Columbia River. We invite your comments on this proposed rulemaking.

DATES: Comments and related material must be received by the Coast Guard on or before March 19, 2026.

ADDRESSES: To submit comments and view available documents, go to https://www.regulations.gov and search for USCG-2026-0025.

FOR FURTHER INFORMATION CONTACT: If you have questions about this proposed rule, contact LCDR Jesse Wallace, Sector Columbia River Waterways Management Division, U.S. Coast Guard; telephone 503-572-3524, or email SCRWWM@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background and Authority

The Coast Guard proposes revising its regulation for recurring fireworks displays in the geographic boundaries of the Northwest District Sector Columbia River Captain of the Port (COTP) Zone, 33 CFR 165.1315. This proposed rule would add one (1) safety zone for a new, recurring fireworks display that was previously published as a temporary safety zone. This proposed rule would also remove one (1) previously established safety zone for a fireworks display. This proposed rule would change the name of an existing fireworks display. Finally, this rule would add a second date for an existing fireworks display. The purpose of this revision is to provide the public accurate information regarding safety zones for annual fireworks displays in the Sector Columbia River Captain of the Port Zone.

The Sector Columbia River COTP has determined that fireworks displays create hazardous conditions for the maritime public because of the large number of vessels near the displays, as well as the noise, falling debris, and explosions that occur during the events. Because firework discharge sites pose a potential hazard to the maritime public, these safety zones are necessary to restrict vessel movement and reduce vessel congregation near firework discharge sites. Therefore, the COTP is proposing this rule under the authority in 46 U.S.C. 70034, which is needed to protect personnel, vessels, and the marine environment in the navigable waters within the safety zone. The regulatory text we are proposing appears at the end of this document.

III. Discussion of the Rule

The Coast Guard proposes establishing a safety zone for one fireworks display event (Irrigon Watermelon Festival) that occurs annually in July. The Irrigon Watermelon Festival safety zone was previously issued as a temporary final rule (Docket Number USCG-2025-0691), and after conferring with the event sponsor, the Coast Guard has learned it will be a recurring fireworks display. The safety zone will cover all navigable waters within 550 feet of the launch site located at approximately 45°54′3.72″ N, 119°29′15.36″ W at Marina Park, located in Irrigon, OR. No vessel or person would be permitted to enter the safety zone without obtaining permission from the COTP or their designated representative.

The Coast Guard also proposes to disestablish a safety zone for one fireworks display event (Westport 4th of July). The Westport 4th of July event has moved inland and thus is no longer subject to the authority and jurisdiction of the Coast Guard.

The Coast Guard proposes to change the name of “The Mill Casino Independence Day” fireworks display to “Ko-Kwel Casino Resort Independence Day Celebration” to reflect the changed name of the event.

Finally, the Coast Guard proposes to change the date of the “Portland Rose Festival Fireworks” from “one day in May or June” to “one day in May and one day in June,” to reflect an additional day of the Festival's fireworks.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. Section 605 of the RFA allows an agency to certify a rule, in lieu of preparing an analysis, if the rulemaking is not expected to have a significant economic impact on a substantial number of small entities. The Coast Guard certifies under 5 U.S.C. 605(b) that this proposed rule would not have a significant economic impact on a substantial number of small entities for the following reasons.

Vessel traffic will be able to safely transit around this regulated area. This regulation will only impact a small area for a few hours. The enforcement period is during a time when vessel traffic is normally low. In addition, the Coast Guard will issue a Broadcast Notice to Marines via VHF FM marine channel 16, which will allow small entities to adjust their transit plans, and the rule allows vessels to request permission to enter the regulated area from the COTP.

If you think that your business, organization, or governmental jurisdiction qualifies as a small entity and that this proposed rule would have a significant economic impact on it, please submit a comment (see ADDRESSES) explaining why you think it qualifies and how and to what degree this proposed rule would economically affect it.

Under section 213(a) of the Small Business Regulatory Enforcement Fairness Act of 1996 (Pub. L. 104-121), if this proposed rule will affect your small business, organization, or governmental jurisdiction and you have questions, contact the person listed in the FOR FURTHER INFORMATION CONTACT section. Small businesses may send comments to the Small Business and Agriculture Regulatory Enforcement Ombudsman and the Regional Small Business Regulatory Fairness Boards by calling 1-888-REG-FAIR (1-888-734-3247).

B. Collection of Information

This proposed rule will not call for a new collection of information under the Paperwork Reduction Act of 1995 (44 U.S.C. 3501-3520).

C. Federalism and Indian Tribal Governments

We have analyzed this proposed rule under Executive Order 13132, Federalism, and have determined that it is consistent with the fundamental federalism principles and preemption requirements described in that Order.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this proposed rule will not result in an annual expenditure of $100,000,000 or more (adjusted for inflation) by a State, local, or tribal government, in the aggregate, or by the private sector.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This proposed rule, which establishes a safety zone and disestablishes a different safety zone, is categorically excluded from further review. The establishment of the safety zone is excluded under paragraph L60(a), and the disestablishment is excluded under paragraph L60(b) of Appendix A, Table 1 of DHS Instruction Manual 023-01-001-01, Rev. 1. A Record of Environmental Consideration supporting the establishment is available in the docket; however, one is not required for the disestablishment.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2026-0025 in the search box and click “Search.” Next, look for this document in the Search Results column, and click on it. Then click on the Comment option. If you cannot submit your material by using https://www.regulations.gov, call or email the person in the FOR FURTHER INFORMATION CONTACT section of this proposed rule for alternate instructions.

Viewing material in the docket. To view available documents, find the docket as described in the previous paragraph, and then select “Supporting & Related Material” in the Document Type column. We will post public comments in our online docket. Additional information is on the https://www.regulations.gov Frequently Asked Questions web page.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Amend § 165.1315 as follows:

§ 165.1315 Safety Zone; Annual Fireworks Displays within the Sector Columbia River Captain of the Port Zone.

a. Revise paragraph (a) as follows:

(a) Safety zones. The following areas are designated safety zones: Waters of the Columbia River and its tributaries, waters of the Siuslaw River, Yaquina River, Umpqua River, Clatskanie River, Tillamook Bay and waters of the Washington and Oregon Coasts, within a 450 yard radius of the launch site at the approximate locations listed in table 1.

* * * * *

b. In the table in paragraph (a), add the title to the table as “Table 1 to § 165.1315.”

* * * * *

c. In newly designated “Table 1 to § 165.1315” revise the first entry for “Portland Rose Festival Fireworks” as follows:

Table 1 to § 165.1315
Portland Rose Festival Fireworks | Portland, OR | One day in May and one day in June | 45°30′58″ N | 122°40′12″ W
* * * * * * *

* * * * *

d. In “Table 1 to § 165.1315,” remove the entry for “Westport 4th of July”

e. In “Table 1 to § 165.1315,” add an entry for “Irrigon Watermelon Festival Fireworks” above the row beginning “Astoria Regatta” to read as follows:

* * * * *

Table 1 to § 165.1315
Irrigon Watermelon Festival Fireworks | Irrigon, OR | One day in July | 45°54′4″ N | 119°29′15″ W

f. In “Table 1 to § 165.1315,” revise the entry for “The Mill Casino Independence Day” as follows:

* * * * *

Table 1 to § 165.1315
Ko-Kwel Casino Resort Independence Day Celebration | North Bend, OR | One day in July | 43°23′42″ N | 124°12′55″ W

* * * * *

Anthony R. Migliorini,
Captain, U.S. Coast Guard, Captain of the Port Columbia River.

[FR Doc. 2026-03043 Filed 2-13-26; 8:45 am]

BILLING CODE 9110-04-P